DEPARTMENT OF THE INTERIOR

Fish and Wildlife Service

[FWS-R4-ES-2010-N113; 40120-1112-0000-F2]

Receipt of Application for Renewal of an Incidental Take Permit Associated With a Low-Effect Habitat Conservation Plan; Residential Development, Brevard County, FL

AGENCY: Fish and Wildlife Service, Interior.

ACTION: Notice; request for comment.

SUMMARY: We, the Fish and Wildlife Service, have received from David Sime (applicant) a request for renewal of an incidental take permit (ITP) associated with an existing habitat conservation plan (HCP), related to the construction of a single-family home that would take 0.33 acre of suitable habitat for the threatened Florida Scrub-jay (Aphelocoma coerulescens) in Brevard County, Florida (project).

DATES: We must receive any written comments on the ITP renewal application at our Regional Office (see ADDRESSES) on or before July 19, 2010.

ADDRESSES: Documents will be available for public inspection by appointment during normal business hours at the Fish and Wildlife Service's Regional Office, 1875 Century Boulevard, Suite 200, Atlanta, GA 30345 (Attn: Holly Herod); or at the Fish and Wildlife Service Field Office, 7915 Baymeadows Way, Suite 200, Jacksonville, FL 32256 (Attn: Field Supervisor).

FOR FURTHER INFORMATION CONTACT: Ms. Holly Herod, Regional Project Manager (see ADDRESSES), telephone: 404/679-7089; or Ms. Erin Gawera, Field Office Project Manager, at the Jacksonville Field Office (see ADDRESSES), telephone: (904) 731-3121.

SUPPLEMENTARY INFORMATION: We announce our receipt of a request for renewal of an ITP application that authorizes the loss of 0.33 acre of suitable habitat for the Florida Scrub-jay. David Sime, the applicant, requests a 5-year ITP under section 10(a)(1)(B) of the Endangered Species Act of 1973 (Act; 16 U.S.C. 1531 et seq.), as amended. The applicant remains in compliance with all the conditions and authorizations in the original permit (TE086774).

After our receipt of the applicant's original application, we published a Federal Register notice making available the application and proposed HCP for a 30-day public review and comment period (July 20, 2004; 69 FR 43429). We determined at the time that the applicant's original proposal, including the proposed mitigation and minimization measures, would individually and cumulatively have a minor or negligible effect on the species covered in the HCP. Therefore, we determined that the ITP was a “low-effect” project qualifying as a categorical exclusion under the National Environmental Policy Act (NEPA), as provided by the Department of Interior Manual (516 DM2 Appendix 1 and 516 DM 6 Appendix 1). We issued the applicant an ITP on March 11, 2005, which expired on March 31, 2010. The ITP described the mitigation and minimization measures proposed to address the effects of the project to the Florida Scrub-jay. Since the issuance of the original ITP, the parcel has remained undisturbed. The applicant remains in compliance with the original ITP and HCP, and requests a 5-year renewal of the ITP. Our proposed action is renewed issuance of the ITP and implementation of the existing HCP as submitted by the applicant. The HCP covers activities associated with the construction and maintenance of a single-family home. Avoidance, minimization, and mitigation measures include seasonal restrictions on vegetation removal and donating funds to the Florida Scrub-jay Conservation Fund.

We specifically request information, views, and opinions from the public via this notice on our proposed Federal action.

Public Comments

If you wish to comment, you may submit comments by any one of several methods. Please reference TE086774-1 in such comments. You may mail comments to the Fish and Wildlife Service's Regional Office (see ADDRESSES). You may also comment via the Internet to holly_herod@fws.gov. Please include your name and return address in your Internet message. If you do not receive a confirmation from us that we have received your Internet message, contact us directly at either telephone number listed under FOR FURTHER INFORMATION CONTACT.

Finally, you may hand-deliver comments to either of our offices listed under ADDRESSES. Before including your address, phone number, e-mail address, or other personal identifying information in your comment, you should be aware that your entire comment—including your personal identifying information—may be made publicly available at any time. While you can ask us in your comment to withhold your personal identifying information from public review, we cannot guarantee that we will be able to do so.

Covered Area

The area encompassed under the HCP and ITP application is a 0.33-acre parcel of property that contains 0.33 acres of suitable, currently undeveloped Florida Scrub-jay habitat. The Project area is located in Brevard County, Florida. The Florida Scrub-jay is geographically isolated from other species of scrub-jays found in Mexico and the western United States. The Florida Scrub-jay is found exclusively in peninsular Florida and is restricted to xeric uplands (predominately in oak-dominated scrub).

Next Steps

We will evaluate the ITP renewal application, including the existing HCP and any comments we receive, to determine whether the application meets the requirements of section 10(a)(1)(B) of the Act and our implementing regulations at 50 CFR 17.32(b). We will also evaluate whether reissuance of the section 10(a)(1)(B) ITP complies with section 7 of the Endangered Species Act by conducting an intra-Service section 7 consultation. We will use the results of this consultation, in combination with the above findings, in our final analysis to determine whether or not to issue the ITP. If we determine that the requirements are met, we will issue the ITP for the incidental take of the Florida Scrub-jay.

Authority

We provide this notice under section 10 of the Act (16 U.S.C. 1531 et seq.) and NEPA regulations (40 CFR 1506.6).

Dated: May 27, 2010.
Mark J. Musaus,
Acting Regional Director.

[FR Doc. 2010-14629 Filed 6-16-10; 8:45 am]

BILLING CODE 4310-55-P